FEDERAL COMMUNICATIONS COMMISSION

47 CFR Part 73

[DA 03-2925, MM Docket No. 01-43, RM-10041]

Digital Television Broadcast Service; Jackson, MS

AGENCY: Federal Communications Commission.

ACTION: Final rule.

SUMMARY: The Commission, by this document, dismisses a petition for rule making filed by Civic License Holding Company, Inc. requesting the substitution of DTV channel 9 for DTV channel 51 at Jackson, Mississippi. See 66 FR 12749, February 28, 2001. With this action, this proceeding is terminated.

FOR FURTHER INFORMATION CONTACT: Pam Blumenthal, Media Bureau, (202) 418-1600.

SUPPLEMENTARY INFORMATION: This is a synopsis of the Commission's Report and Order, MM Docket No. 01-43, adopted September 23, 2003, and released October 1, 2003. The full text of this document is available for public inspection and copying during regular business hours in the FCC Reference Information Center, Portals II, 445 12th Street SW., Room CY-A257, Washington, DC. This document may also be purchased from the Commission's duplicating contractor, Qualex International, Portals II, 445 12th Street, SW., CY-B402, Washington, DC, 20554, telephone (202) 863-2893, facsimile (202) 863-2898, or via e-mail qualexint@aol.com.

List of Subjects in 47 CFR Part 73

Digital television broadcasting, Television.

Federal Communications Commission.
Barbara A. Kreisman,
Chief, Video Division, Media Bureau.

[FR Doc. 03-25333 Filed 10-6-03; 8:45 am]

BILLING CODE 6712-01-P